DEPARTMENT OF ENERGY

Federal Energy Regulatory Commission

[Project No. 9184-013]

Flambeau Hydro, LLC; Notice of Application Ready for Environmental Analysis and Soliciting Comments, Recommendations, Terms and Conditions, and Prescriptions

February 7, 2006.

Take notice that the following hydroelectric license application has been filed with the Commission and is available for public inspection.

a. Type of Application: Subsequent License.

b. Project No.: P-9184-013.

c. Date Filed: June 10, 2005.

d. Applicant: Flambeau Hydro, LLC.

e. Name of Project: Danbury Hydroelectric Project.

f. Location: Located on the Yellow River in Burnett County, Wisconsin. This project does not occupy federal lands.

g. Filed Pursuant to: Federal Power Act 16 U.S.C. 791 (a)-825(r).

h. Applicant Contact: Scott Klabunde, North American Hydro, Inc., P.O. Box 167, Neshkoro, WI 54960; 920-293-4628 ext. 14.

i. FERC Contact: Timothy Konnert, (202) 502-6359, timothy.konnert@ferc.gov.

j. Deadline for filing comments, recommendations, terms and conditions, and prescriptions: 60 days from the issuance date of this notice; reply comments are due 105 days from the issuance date of this notice.

All documents (original and eight copies) should be filed with: Magalie R. Salas, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See CFR 385.2001 (a)(1)(iii) and the instructions on the Commission's Web site (http://www.ferc.gov) under the “eFiling” link.

k. This application has been accepted, and is ready for environmental analysis at this time.

l. The existing Danbury Project consists of: (1) A 35-foot-high concrete dam with a 48-foot-wide spillway with three sections, each of which is equipped with 7-foot-high slide gates; (2) a 300-foot-long earthen dike connecting to the right side of the concrete dam; (3) a powerhouse (Plant 1) integral to the dam containing a 176-kW turbine generating unit and a 300-kW turbine generating unit; (4) a 255-acre reservoir with a negligible net storage capacity at a water surface elevation of 929.21 feet NGVD from April through October and 928.11 feet NGVD from November through March; (5) a 2,500-foot-long power canal that conveys water to; (6) a second powerhouse (Plant 2) containing a single 600-kW turbine generating unit; and (7) appurtenant facilities. The applicant estimates that the total average annual generation is 3,844 megawatt-hours. The dam and existing project facilities are owned by Flambeau Hydro, LLC.

m. A copy of the application is available for review at the Commission in the Public Reference Room or may be viewed on the Commission's Web site at http://www.ferc.gov using the “e-Library” link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via e-mail of new filings and issuances related to this or other pending projects. For assistance, contact FERC Online Support.

n. Procedural schedule: The Commission staff proposes to issue an Environmental Assessment (EA) rather than issuing a draft and final EA. Staff intends to allow at least 30 days for entities to comment on the EA, and will take into consideration all comments received on the EA before final action is taken on the license application. The application will be processed according to the following schedule, but revisions to the schedule may be made as appropriate:

Issue Notice of availability of the EA: May 30, 2006.

Ready for Commission decision on the application: July 31, 2006.

Final amendments to the application must be filed with the Commission no later than 30 days from the issuance date of the notice of ready for environmental analysis.

Magalie R. Salas,
Secretary.

[FR Doc. E6-2035 Filed 2-13-06; 8:45 am]

BILLING CODE 6717-01-P